DEPARTMENT OF JUSTICE

Bureau of Justice Statistics

[OMB Number 1121-0314]

Agency Information Collection Activities; Proposed eCollection eComments Requested; Extension Without Change, of a Previously Approved Collection; Firearm Inquiry Statistics (FIST) Program

AGENCY: Bureau of Justice Statistics, Department of Justice

ACTION: 30-day notice.

SUMMARY: The Department of Justice (DOJ), Office of Justice Programs, Bureau of Justice Statistics, will be submitting the following information collection request to the Office of Management and Budget (OMB) for review and approval in accordance with the Paperwork Reduction Act of 1995. This proposed information collection was previously published in the Federal Register at 82 FR 8212 on January 24, 2017, allowing for a 60 day comment period. No comments were received.

DATES: Comments are encouraged and will be accepted for 30 days until May 1, 2017.

FOR FURTHER INFORMATION CONTACT: If you have additional comments especially on the estimated public burden or associated response time, suggestions, or need a copy of the proposed information collection instrument with instructions or additional information, please contact Allina Lee, Statistical Policy Advisor, Bureau of Justice Statistics, 810 Seventh Street NW., Washington, DC 20531 (phone: 202-305-2696).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: 2016 Firearm Inquiry Statistics Program: Annual Survey of Background Checks for Firearm Transfers and Permits.

3. The agency form number, if any, and the applicable component of the Department sponsoring the collection: There is no agency form number at this time. The applicable component within the Department of Justice is the Bureau of Justice Statistics, in the Office of Justice Programs.

4. Affected public who will be asked or required to respond, as well as a brief abstract: Through the Firearm Inquiry Statistics (FIST) Program, the Bureau of Justice Statistics (BJS) obtains information from state and local checking agencies responsible for maintaining records on the number of background checks for firearm transfers or permits that were issued, processed, tracked, or conducted during the calendar year. Specifically, state and local checking agencies are asked to provide information on the number of applications and denials for firearm transfers received or tracked by the agency, and reasons why an application was denied. BJS combines these data with the Federal Bureau of Investigation's (FBI) National Instant Criminal Background Check System transaction data to produce comprehensive national statistics on firearm application and denial activities resulting from the Brady Handgun Violence Prevention Act of 1993 (the Brady Act) and similar state laws governing background checks and firearm transfers. BJS also collects information from the Bureau of Alcohol, Tobacco, Firearms, and Explosives (ATF) on FBI denials screened and referred to ATF field offices for investigation and possible prosecution. BJS began the FIST program in 1995 and collects FIST data annually. BJS publishes FIST data on the BJS Web site in statistical tables and uses the information to respond to inquiries from Congress, federal, state, and local government officials, researchers, students, the media, and other members of the general public interested in in criminal justice statistics.

5. An estimate of the total number of respondents and the amount of time estimated for an average respondent to respond: An estimated 1,044 checking agencies will take part in the 2016 FIST survey, including the 34 state agency reporters that provide complete statewide counts of applications of firearm transfers or permits and denials, a full census of local checking agencies in 9 states where the local agencies are the FIST points-of-contact, and a sample of agencies in 3 states where local checking agencies are responsible for conducting background checks. Based on testing of the current survey form and BJS's extensive history conducting the FIST collection, BJS estimates that the burden will vary depending on the number of permit or transfer types the respondent agency conducts background checks: 20 minutes for agencies that conduct background checks for 1 type; 30 minutes for agencies that conduct background checks for 2 types; and 30 minutes for state reporting agencies. The overall estimated burden is 25 minutes per respondent, which is consistent with the burden associated with the 3 most recent collections (2012, 2014, and 2015).

6. An estimate of the total public burden (in hours) associated with the collection: The estimated public burden associated with this collection is 435 hours annually. (This estimate assumes a 100% response rate). It is estimated that respondents will take 25 minutes to complete a questionnaire. The burden hours for collecting respondent data sum to 435 hours (1,044 respondents × 25 minutes = 435 hours).

If additional information is required contact: Melody Braswell, Department Clearance Officer, United States Department of Justice, Justice Management Division, Policy and Planning Staff, Two Constitution Square, 145 N Street NE., 3E.405A, Washington, DC 20530.

Dated: March 27, 2017.
Melody Braswell,
Department Clearance Officer for PRA, U.S. Department of Justice.

[FR Doc. 2017-06275 Filed 3-29-17; 8:45 am]

BILLING CODE 4410-18-P